DEPARTMENT OF ENERGY

Federal Energy Regulatory Commission

Combined Notice of Filings #1

Take notice that the Commission received the following exempt wholesale generator filings:

Docket Numbers: EG11-107-000.

Applicants: Trinity Hills Wind Farm LLC.

Description: Notice of Self-Certification of Exempt Wholesale Generator Status of Trinity Hills Wind Farm LLC.

File Date: 07/15/2011.

Accession Number: 20110715-5056.

Comment Date: 5 p.m. Eastern Time on Friday, August 05, 2011.

Take notice that the Commission received the following electric rate filings:

Docket Numbers: ER10-2498-001.

Applicants: South Carolina Electric & Gas Transmission Co.

Description: South Carolina Electric & Gas Co submits an updated market power analysis supporting their continued authorization to make wholesale electricity sales at market-based rates.

File Date: 07/14/2011.

Accession Number: 20110715-0029.

Comment Date: 5 p.m. Eastern Time on Monday, September 12, 2011.

Docket Numbers: ER11-4056-000.

Applicants: New York Independent System Operator, Inc.

Description: New York Independent System Operator, Inc. submits tariff filing per 35.13(a)(2)(iii: LGIA among the NYISO, NYPA and Marble River, LLC to be effective 6/29/2011.

File Date: 07/15/2011.

Accession Number: 20110715-5085.

Comment Date: 5 p.m. Eastern Time on Friday, August 05, 2011.

Docket Numbers: ER11-4057-000.

Applicants: Shiloh III Wind Project, LLC.

Description: Shiloh III Wind Project, LLC submits tariff filing per 35.12: Shiloh III Baseline MBR Application Filing to be effective 9/1/2011.

File Date: 07/15/2011.

Accession Number: 20110715-5164.

Comment Date: 5 p.m. Eastern Time on Friday, August 05, 2011.

Docket Numbers: ER11-4058-000.

Applicants: Entergy Arkansas, Inc.

Description: Entergy Arkansas, Inc. submits tariff filing per 35.13(a)(2)(iii: Amended Reliant IOA to be effective 9/13/2011.

File Date: 07/15/2011.

Accession Number: 20110715-5165.

Comment Date: 5 p.m. Eastern Time on Friday, August 05, 2011.

Docket Numbers: ER11-4059-000.

Applicants: Alcoa Power Generating Inc.

Description: Alcoa Power Generating Inc. submits tariff filing per 35.1: APGI-TVA Interconnection Agreement to be effective 7/15/2011.

File Date: 07/15/2011.

Accession Number: 20110715-5166.

Comment Date: 5 p.m. Eastern Time on Friday, August 05, 2011.

Docket Numbers: ER11-4060-000.

Applicants: High Sierra Limited.

Description: High Sierra Limited submits tariff filing per 35.12: High Sierra Limited Market-Based Rate Tariff to be effective 7/16/2011.

File Date: 07/15/2011.

Accession Number: 20110715-5167.

Comment Date: 5 p.m. Eastern Time on Friday, August 05, 2011.

Docket Numbers: ER11-4061-000.

Applicants: Kern Front Limited.

Description: Kern Front Limited submits tariff filing per 35.12: Kern Front Limited MBR Tariff to be effective 7/16/2011.

File Date: 07/15/2011.

Accession Number: 20110715-5168.

Comment Date: 5 p.m. Eastern Time on Friday, August 05, 2011.

Docket Numbers: ER11-4062-000.

Applicants: Entergy Arkansas, Inc.

Description: Entergy Arkansas, Inc. submits tariff filing per 35.13(a)(2)(iii: Amended Reliant IOA to be effective 9/13/2011.

File Date: 07/15/2011.

Accession Number: 20110715-5169.

Comment Date: 5 p.m. Eastern Time on Friday, August 05, 2011.

Docket Numbers: ER11-4063-000.

Applicants: Double “C” Limited.

Description: Double “C” Limited submits tariff filing per 35.12: Double “C” Limited MBR Tariff to be effective 7/16/2011.

File Date: 07/15/2011.

Accession Number: 20110715-5170.

Comment Date: 5 p.m. Eastern Time on Friday, August 05, 2011.

Docket Numbers: ER11-4064-000.

Applicants: Entergy Arkansas, Inc.

Description: Entergy Arkansas, Inc. submits tariff filing per 35.13(a)(2)(iii: Amended Washington Parrish IOA to be effective 9/13/2011.

File Date: 07/15/2011.

Accession Number: 20110715-5171.

Comment Date: 5 p.m. Eastern Time on Friday, August 05, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 18, 2011.
Nathaniel J. Davis, Sr.,
Deputy Secretary.

[FR Doc. 2011-18657 Filed 7-22-11; 8:45 am]

BILLING CODE 6717-01-P